DEPARTMENT OF ENERGY

Federal Energy Regulatory Commission

[Docket No. IC12-16-000]

Commission Information Collection Activities (FERC-715); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-715 (Annual Transmission Planning and Evaluation Report) to the Office of Management and Budget (OMB) for review of the information collection requirements. Any interested person may file comments directly with OMB and should address a copy of those comments to the Commission as explained below. The Commission issued a Notice in the Federal Register (77 FR 53877, 9/4/2012) requesting public comments. FERC received no comments on the FERC-715 and is making this notation in its submittal to OMB.

DATES: Comments on the collection of information are due by December 20, 2012.

ADDRESSES: Comments filed with OMB, identified by the OMB Control No. 1902-0171, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-16-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-715, Annual Transmission Planning and Evaluation Report.

OMB Control No.: 1902-0171.

Type of Request: Three-year extension of the FERC-715 information collection requirements with no changes to the reporting requirements.

Abstract: Acting under FPA Section 213,¹ FERC requires each transmitting utility that operates integrated transmission system facilities rated above 100 kilovolts (kV) to submit annually:

¹ 16 U.S.C. 8241.

• Contact information for the FERC-715;

• Base case power flow data (if it does not participate in the development and use of regional power flow data);

• Transmission system maps and diagrams used by the respondent for transmission planning;

• A detailed description of the transmission planning reliability criteria used to evaluate system performance for time frames and planning horizons used in regional and corporate planning;

• A detailed description of the respondent's transmission planning assessment practices (including, but not limited to, how reliability criteria are applied and the steps taken in performing transmission planning studies); and

• A detailed evaluation of the respondent's anticipated system performance as measured against its stated reliability criteria using its stated assessment practices.

The FERC-715 enables the Commission to use the information as part of their regulatory oversight functions which includes:

• The review of rates and charges;

• The disposition of jurisdictional facilities;

• The consolidation and mergers;

• The adequacy of supply and;

• Reliability of nation's transmission grid

The FERC-715 enables the Commission to facilitate and resolve transmission disputes. Additionally, the Office of Electric Reliability (OER) uses the FERC-715 data to help protect and improve the reliability and security of the nation's bulk power system. OER oversees the development and review of mandatory reliability and security standards and ensures compliance with the approved standards by the users, owners, and operators of the bulk power system. OER also monitors and addresses issues concerning the nation's bulk power system including assessments of resource adequacy and reliability.

Without the FERC-715 data, the Commission would be unable to evaluate planned projects or requests related to transmission.

Type of Respondents: Integrated transmission system facilities rated at or above 100 kilovolts (kV).

Estimate of Annual Burden: ² The Commission estimates the total Public Reporting Burden for this information collection as:

² Burden is defined as the total time, effort, or financial resources expended by persons to generate, maintain, retain, or disclose or provide information to or for a Federal agency. For further explanation of what is included in the information collection burden, reference 5 Code of Federal Regulations 1320.3.

FERC-715 (IC12-16-000)—Annual Transmission Planning and Evaluation Report
Number of respondents | Number of responses per respondent | Total number of responses | Average burden hours per response | Estimated total annual burden
(A) | (B) | (A) × (B) = (C) | (D) | (C) × (D)
110 | 1 | 110 | 160 | 17,600

The total estimated annual cost burden to respondents is $2,995,016 [17,600 hours ÷ 2,080 ³ hours/year = 8.46153 * $143,540/year ⁴ = $1,214,569.23].

³ 2080 hours/year = 40 hours/week * 52 weeks/year.

⁴ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 14, 2012.
Kimberly D. Bose,
Secretary.

[FR Doc. 2012-28153 Filed 11-19-12; 8:45 am]

BILLING CODE 6717-01-P